ENVIRONMENTAL PROTECTION AGENCY

[FRL-8972-8]

Good Neighbor Environmental Board

AGENCY: Environmental Protection Agency (EPA).

ACTION: Notification of meeting.

SUMMARY: Pursuant to the Federal Advisory Committee Act, Public Law 92-463, notice is hereby given that the Good Neighbor Environmental Board (GNEB) will hold a public teleconference on November 3, 2009 from 1 p.m. to 3 p.m. Eastern Standard Time. The meeting is open to the public. For further information regarding the teleconference and background materials, please contact Dolores Wesson at the number listed below.

Background: GNEB is a federal advisory committee chartered under the Federal Advisory Committee Act, Public Law 92463. GNEB provides advice and recommendations to the President and Congress on environmental and infrastructure issues along the U.S. border with Mexico. Purpose of Meeting: The purpose of this teleconference is to discuss and approve the Good Neighbor Environmental Board's draft advice letter to the President on the environmental effects of the U.S.-Mexico border fence and associated infrastructure. The Board will also continue discussion on the Thirteenth Report to the President.

SUPPLEMENTARY INFORMATION: If you wish to make oral comments or submit written comments to the Board, please contact Dolores Wesson at least five days prior to the meeting.

General Information: Additional information concerning the GNEB can be found on its Web site at http://www.epa.gov/ocem/gneb.

Meeting Access: For information on access or services for individuals with disabilities, please contact Dolores Wesson at (202) 564-1351 or e-mail her at wesson.dolores@epa.gov. To request accommodation of a disability, please contact Dolores Wesson at least 10 days prior to the meeting to give EPA as much time as possible to process your request.

Dated: September 9, 2009.
Dolores Wesson,
Designated Federal Officer.

[FR Doc. E9-25592 Filed 10-22-09; 8:45 am]

BILLING CODE 6560-50-P